DEPARTMENT OF DEFENSE

Office of the Secretary

[Transmittal No. 23-45]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-45, Policy Justification, and Sensitivity of Technology.

Dated: October 2, 2024.
Aaron T. Siegel,
Alternate OSD Federal Register Liaison Officer, Department of Defense.

BILLING CODE 6001-FR-P

BILLING CODE 6001-FR-C

Transmittal No. 23-45

Notice of Proposed Issuance of Letter of Offer Pursuant to Section 36(b)(1) of the Arms Export Control Act, as amended

(i) Prospective Purchaser: Government of The Netherlands

(ii) Total Estimated Value:

Major Defense Equipment * | $173 million
Other | $438 million
TOTAL | 611 million

(iii) Description and Quantity or Quantities of Articles or Services under Consideration for Purchase:

Major Defense Equipment (MDE):

Up to four (4) MQ-9A Block 5 Aircraft

Up to three (3) Unmanned Aircraft Systems (UAS) MQ-9 Mobile Ground Control Systems (MGCS)

Up to thirty (30) Embedded Global Positioning System/Internal Navigation System (EGI) Devices, Airborne, with Selective Availability Anti-Spoofing Module (SAASM) or M-Code

Up to eight (8) AN/DAS-4 Multi-Spectral Targeting Systems

Up to twenty (20) Lynx AN/APY-8 Synthetic Aperture Radars

Non-MDE:

Also included are Reaper engines; Selex Seaspray Synthetic Aperture Radars; SeaVue maritime radars; M299 Hellfire Longbow missile launchers; AN/ARC-210 radios; Line-of-Site (LOS) Ground Data Terminals; Ruggedized Aircraft Maintenance Test Stations (RAMTS); AN/APX-119 and other Identification Friend or Foe transponders; KIV-77 Cryptographic Appliques; KY-100M narrowband/wideband terminals; AN/PYQ-10 Simple Key Loaders; Satellite Communications (SATCOM) Earth Terminal Subsystems (SETSS); spare parts, consumables, accessories, and repair and return support; secure communication equipment and cryptographic devices; major/minor modifications, maintenance, and maintenance support; munitions support and support equipment; unclassified software delivery and support; transportation support; unclassified publications and technical documentation; studies and surveys; U.S. Government and contractor engineering, technical, and logistics support services; and other related elements of logistical and program support.

(iv) Military Department: Air Force (NE-D-SAA)

(v) Prior Related Cases, if any: NE-D-SMQ

(vi) Sales Commission, Fee, etc., Paid, Offered, or Agreed to be Paid: None known at this time

(vii) Sensitivity of Technology Contained in the Defense Article or Defense Services Proposed to be Sold: See Attached Annex

(viii) Date Report Delivered to Congress: June 16, 2023

* As defined in Section 47(6) of the Arms Export Control Act.

POLICY JUSTIFICATION

The Netherlands—MQ-9A Block 5 Aircraft

The Government of the Netherlands has requested to buy up to four (4) MQ-9A Block 5 aircraft; up to three (3) Unmanned Aircraft Systems (UAS) MQ-9 Mobile Ground Control Systems (MGCS); up to thirty (30) Embedded Global Positioning Systems/Internal Navigation Systems (EGI) devices, Airborne, with Selective Availability Anti-Spoofing Module (SAASM) or M-Code; up to eight (8) AN/DAS-4 Multi-Spectral Targeting Systems; and up to twenty (20) Lynx AN/APY-8 Synthetic Aperture Radars. Also included are Reaper Engines; Selex Seaspray Synthetic Aperture Radars; SeaVue Maritime Radars; M299 Hellfire Longbow missile launchers; AN/ARC-210 radios; Line-of-Site (LOS) Ground Data Terminals; Ruggedized Aircraft Maintenance Test Stations (RAMTS); AN/APX-119 and other Identification Friend or Foe transponders; KIV-77 Cryptographic Appliques; KY-100M narrowband/wideband terminals; AN/PYQ-10 Simple Key Loaders; Satellite Communications (SATCOM) Earth Terminal Subsystems (SETSS); spare parts, consumables, accessories, and repair and return support; secure communication equipment and cryptographic devices; major/minor modifications, maintenance, and maintenance support; munitions support and support equipment; unclassified software delivery and support; transportation support; unclassified publications and technical documentation; studies and surveys; U.S. Government and contractor engineering, technical, and logistics support services; and other related elements of logistical and program support. The estimated total cost is $611 million.

This proposed sale will support the foreign policy goals and national security objectives of the United States by improving the security of a NATO Ally that is a force for political stability and economic progress in Europe.

The proposed sale will improve the Netherlands' capability to meet current and future threats. The MQ-9A aircraft will support Intelligence, Surveillance, Target Acquisition, and Reconnaissance (ISTAR) missions as well as Air Attack and Counter Maritime Operation tasks. The Netherlands already has MQ-9A aircraft in its inventory and will have no difficulty absorbing these articles and services into its armed forces.

The proposed sale of this equipment and support will not alter the basic military balance in the region.

The principal contractor will be General Atomics-Aeronautical Systems, Poway, CA. There are no known offset agreements proposed in connection with this potential sale.

Implementation of this proposed sale will not require the assignment of additional contractor or government representatives.

There will be no adverse impact on U.S. defense readiness as a result of this proposed sale.

Transmittal No. 23-45

Notice of Proposed Issuance of Letter of Offer Pursuant to Section 36(b)(1) of the Arms Export Control Act

Annex

Item No. vii

(vii) Sensitivity of Technology:

1. The MQ-9A Block 5 Unmanned Aerial System (UAS) is a Medium Altitude, long-endurance (MALE) remotely piloted aircraft that can be used for surveillance, military reconnaissance, and targeting missions. Real-time missions are flown under the control of a pilot in a Ground Control Station (GCS). A datalink is maintained that uplinks control commands and downlinks video with telemetry data. Line-of-Sight (LOS) communication is enabled through C-Band datalink and Beyond-Line-of-Sight (BLOS) communication is enabled through Ku-Band Satellite Communication (SATCOM). Control of the aircraft and control of the payload are managed through direct manual inputs by the crew or by preprogramming the mission. Preprogrammed missions are planned and uploaded by the pilots via the GCS and are executed through the control of an onboard suite of redundant computers and sensors. Payload imagery and data are downlinked to the GCS. The pilot may initiate preprogrammed missions once the aircraft is airborne and land the aircraft when the mission is completed. Pilots can change preprogrammed mission parameters as often as required. When operated BLOS, aircraft control is given to other strategically placed Ground Control Stations—permitting remote split operations (RSO). The MQ-9A Block 5 is designed to carry 850 pounds of internal payload with maximum fuel and can carry multiple mission payloads aloft. The MQ-9A Block 5 will be configured for the following payloads: Electro-Optical/Infrared (E.O./IR), Synthetic Aperture Radar (SAR), Electronic Support Measures (ESM), Signals Intelligence (SIGINT), laser designators, and various weapons packages.

a. The GCS can be either fixed or mobile. Both versions incorporate workstations that allow operators to control and monitor the aircraft, as well as record and exploit downlinked payload data.

b. The Embedded Global Positioning System/Inertial Navigation System (GPS/INS) (EGI) with Selective Availability Anti-Spoofing Module (SAASM)—or M-Code receiver when available—and Precise Positioning Service (PPS) is a self-contained navigation system that provides the following information: acceleration, velocity, position, attitude, platform azimuth, magnetic and true heading, altitude, body angular rates, time tags, and coordinated universal time (UTC) synchronized time. SAASM or M-Code enables the GPS receiver to access the encrypted P (Y or M) signal, providing protection against active spoofing attacks.

c. LOS Ground Data terminals and Ku-Band SATCOM GA-ASI Transportable Earth Stations (GATES) provide command, control, and data acquisition.

2. The Raytheon Multi-Spectral Targeting System-D (MTS-D) AN/DAS-4 integrates electro-optical (EO), infrared (IR), laser designation and laser illumination capabilities to provide detection, ranging, and tracking capabilities specifically for high-altitude applications. This advanced EO and IR system provides long-range surveillance, high altitude target acquisition, tracking, range finding, and laser designation for the Hellfire missile and for all tri-service and NATO laser-guided munitions. The MTS-D provides greater target location accuracy than the MTS-B.

3. The AN/APY-8 Lynx Synthetic Aperture Radar (SAR) and Ground Moving Target Indicator (GMTI) system provides all-weather surveillance, tracking, and targeting for military and commercial customers from manned and unmanned vehicles.

4. The Selex Seaspray is an Active Electronically Scanned Array (AESA) surveillance radar suitable for a range of capabilities from long-range search to small target detection.

5. The SeaVue Maritime Multi-Role Patrol Radar is a synthetic aperture X-band radar that provides small-target maritime detection in high seas, maritime search (including submarine periscopes and semi-submersibles), radar imaging of ocean targets, and weather detection and avoidance.

6. The M299 launcher provides mechanical and electrical interface between the Hellfire missile and aircraft.

7. ARC-210 radios are voice communications radio systems equipped with HAVE QUICK II and Second Generation Antijam Tactical UHF Radio for NATO (SATURN), which employ cryptographic technology. Other waveforms may be included as needed.

8. The Ruggedized Aircraft Maintenance Test Station (RAMTS) is a mobile test station used to perform diagnostic and operational checks on the MQ-9.

9. The AN/APX-119 is an Identification Friend or Foe (IFF) transponder that provides military aircraft with a secure combat identification capability to help reduce fratricide and enhance battlespace awareness, while providing safe access to civilian airspace.

10. The KIV-77 is a cryptographic applique for IFF. It can be loaded with Mode 5 classified elements.

11. The KY-100M is a lightweight terminal for secure voice and data communications. The KY-100M provides wideband/narrowband half-duplex communication. Operating in tactical ground, marine, and airborne applications, the KY-100M enables secure communication with a broad range of radio and satellite equipment.

12. The AN/PYQ-10 Simple Key Loader is a handheld device used for securely receiving, storing, and transferring data between compatible cryptographic and communications equipment.

13. The highest level of classification of defense articles, components, and services included in this potential sale is SECRET.

14. If a technologically advanced adversary were to obtain knowledge of the specific hardware and software elements, the information could be used to develop countermeasures that might reduce weapon system effectiveness or be used in the development of a system with similar or advanced capabilities.

15. A determination has been made that the Netherlands can provide substantially the same degree of protection for the sensitive technology being released as the U.S. Government. This sale is necessary in furtherance of the U.S. foreign policy and national security objectives outlined in the Policy Justification.

16. All defense articles and services listed in this transmittal have been authorized for release and export to the Netherlands.

[FR Doc. 2024-23193 Filed 10-7-24; 8:45 am]

BILLING CODE 6001-FR-P